DEPARTMENT OF LABOR

Employment and Training Administration

[TA-W-55,344]

R&W Fashions, Inc., Formerly Known as Raymond Garment Cutting, San Francisco, CA; Amended Certification Regarding Eligibility To Apply for Worker Adjustment Assistance

In accordance with section 223 of the Trade Act of 1974 (19 U.S.C. 2273) the Department of Labor issued a Certification of Eligibility to Apply for Worker Adjustment Assistance on September 9, 2004, applicable to workers of R&W Fashion, Inc., San Francisco, California. The notice was published in the Federal Register on October 8, 2004 (69 FR 60426).

At the request of the State agency, the Department reviewed the certification for workers of the subject firm. The workers were engaged in women's and girls' apparel.

The subject firm originally named Raymond Garment Cutting was renamed R&W Fashion, Inc. following an earlier corporate decision. The State agency reports that some workers separated from employment at the subject firm had their wages reported under a separate unemployment insurance (UI) tax account for Raymond Garment Cutting, San Francisco, California.

Accordingly, the Department is amending the certification to properly reflect this matter.

The intent of the Department's certification is to include all workers of R&W Fashion, Inc., formerly known as Raymond Garment Cutting, who were adversely affected by increased imports.

The amended notice applicable to TA-W-55,344 is hereby issued as follows:

All workers of R&W Fashion, Inc., formerly known as Raymond Garment Cutting, San Francisco, California, who became totally or partially separated from employment on or after July 22, 2003, through September 9, 2006, are eligible to apply for adjustment assistance under section 223 of the Trade Act of 1974.

Signed in Washington, DC, this 10th day of December, 2004.
Linda G. Poole,
Certifying Officer, Division of Trade Adjustment Assistance.

[FR Doc. E5-199 Filed 1-19-05; 8:45 am]

BILLING CODE 4510-30-P